DEPARTMENT OF HOMELAND SECURITY

Federal Emergency Management Agency

[Docket ID FEMA-2020-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of April 21, 2021 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Los Angeles County, California and Incorporated Areas
Docket No.: FEMA-B-1716
City of El Segundo | City Hall, 350 Main Street, El Segundo, CA 90245.
City of Hermosa Beach | City Hall, 1315 Valley Drive, Hermosa Beach, CA 90254.
City of Long Beach | City Hall, 333 West Ocean Boulevard, 9th Floor, Long Beach, CA 90802.
City of Los Angeles | Department of Public Works, 1149 South Broadway, Suite 810, Los Angeles, CA 90015.
City of Malibu | City Hall, 23825 Stuart Ranch Road, Malibu, CA 90265.
City of Manhattan Beach | Engineering Department, 3621 Bell Avenue, Manhattan Beach, CA 90266.
City of Palos Verdes Estates | City Hall, 340 Palos Verdes Drive West, Palos Verdes Estates, CA 90274.
City of Rancho Palos Verdes | City Hall, 30940 Hawthorne Boulevard, Rancho Palos Verdes, CA 90275.
City of Redondo Beach | Planning Department, 531 North Gertruda Avenue, Redondo Beach, CA 90277.
City of Santa Monica | Department of Public Works, 1685 Main Street, Santa Monica, CA 90401.
City of Torrance | Community Development, 3031 Torrance Boulevard, Torrance, CA 90503.
Unincorporated Areas of Los Angeles County | Los Angeles County Watershed Management, 900 South Fremont Avenue, Alhambra, CA 91803.
Gallatin County, Montana and Incorporated Areas
Docket No.: FEMA-B-1836
City of Bozeman | Stiff Professional Building, Engineering Department, 20 East Olive Street, 1st Floor, Bozeman, MT 59715.
Unincorporated Areas of Gallatin County | Gallatin County Courthouse, Planning Department, 311 West Main Street, Room 108, Bozeman, MT 59715.

[FR Doc. 2020-28474 Filed 12-23-20; 8:45 am]

BILLING CODE 9110-12-P